DEPARTMENT OF AGRICULTURE

Forest Service

Santa Fe National Forest, New Mexico, Motorized Travel Management Plan

AGENCY: Forest Service, USDA.

ACTION: Notice of intent to prepare an environmental impact statement.

SUMMARY: The Santa Fe National Forest (Forest) will prepare an environmental impact statement to designate a system of roads, trails, and areas open to motorized travel by class of vehicle and time of year, in accordance with the Agency's 2005 Travel Management Rule. As part of the proposal, the Forest will also address the use of motor vehicles for dispersed camping and big game retrieval. Once a decision is made about which roads, trails, and areas will be open to motorized use, motorized travel off the designated system will be prohibited. The designated roads, trails, and areas will be published on a motor vehicle use map, which will serve as the primary tool for compliance and enforcement.

This notice summarizes the proposal, opportunities for public participation, decisions to be made, and estimated dates for publication of documents associated with the project.

DATES: Comments about the proposal should be submitted within 45 days of the date of publication of this notice in the Federal Register. The Forest expects to publish the draft environmental impact statement in June 2009 and the final environmental impact statement in September 2009. For public meeting dates, refer to the SUPPLEMENTARY INFORMATION section.

ADDRESSES: Send written comments to Julie Bain, Project Leader, Santa Fe National Forest Travel Management Planning, 1474 Rodeo Road, Santa Fe, NM 87505. Fax comments to (505) 438-7834. Send electronic comments to comments-southwestern-santafe@fs.fed.us with “Travel Management” in the subject line. Electronic attachments must be in one of the following formats: .doc, .rtf, .txt, or .pdf.

FOR FURTHER INFORMATION CONTACT: Process Information: Julie Bain, Project Leader, Santa Fe National Forest, at (505) 438-7829 or sftravelmgt@fs.fed.us.

Technical Information: Diane Taliaferro, Recreation Program Manager, Santa Fe National Forest, at (505) 438-7823 or sftravelmgt@fs.fed.us.

The proposed action, maps, and other pertinent information about this project can be found on the Forest's Web site: http://www.fs.fed.us/r3/sfe/travelmgt/index.html.

SUPPLEMENTARY INFORMATION:

Background: People use motor vehicles to access the Santa Fe National Forest for a number of activities, such as hiking, horseback riding, hunting, camping, sightseeing, viewing wildlife, fishing, and collecting firewood or other forest products. People also use vehicles for administrative and commercial activities such as logging, grazing management, and utility maintenance.

The Forest Service has identified four major threats to the national forests and grasslands: (1) The risk of catastrophic fire, (2) the loss of open space, (3) invasive species, and (4) unmanaged recreation, including the effects of unmanaged off-highway vehicles (OHVs). In response to the latter, on November 9, 2005 the Forest Service published final travel management regulations governing OHVs and other motor vehicles on national forests and grasslands.

The Travel Management Rule requires that national forests designate a system of roads, trails, and areas open for motor vehicle use by class of vehicle, and if appropriate, by time of year. The designated roads, trails, and areas will be published on a motor vehicle use map for the public's use. After routes and areas are designated and the motor vehicle use map published, motor vehicle use not in accordance with these designations will be prohibited. The Travel Management Rule also addresses the use of vehicles to access campsites and retrieve big game.

Proposed Action: The full text and maps of the proposed action are located on the Forest's Web site at http://www.fs.fed.us/r3/sfe/travelmgt/index.html. Under the proposed action, the Forest would do the following: Change forest policy regarding motorized travel, designate a system of roads, trails, and areas, designate motorized access to dispersed camping, and limit the motorized retrieval of downed big game to the designated system. Each action is described below.

Forest Policy: The Santa Fe National Forest proposes to amend its current forest plan direction so that it complies with the Travel Management Rule and to update language related to management of the transportation system. The proposed action would:

• Designate a system of roads, trails, and areas open to motor vehicle use by the public by class of vehicle and time of year pursuant to section 212.51.

• Prohibit travel off the designated system pursuant to section 251.13.

• Remove the minimum open road density standard from all management areas.

• Amend the maximum open road density standard for specific units within management areas not meeting the open road density currently listed in the forest plan.

• Remove quantitative goals for road construction, reconstruction, and decommissioning.

Roads: To reduce the negative effects to national forest system lands and resources from excessive or poorly situated roads and still provide motorized access, the Santa Fe National Forest proposes to designate 2,309 miles of the existing 4,924 miles of roads for motorized travel by the public by class of vehicle and season of use. This would reduce the number of miles authorized for motor vehicle use from the existing direction by 2,615 miles, equal to a 53% reduction.

The 2,309 miles proposed for designation includes 17 miles of unauthorized roads, 90 miles of closed forest roads, 9 miles of previously decommissioned roads, 73 miles of non-system roads, and 7 miles of undetermined roads. The remaining 2,113 miles proposed for designation are existing forest roads.

Motorized Trails: To provide opportunities for managed motorized recreation, the Santa Fe National Forest proposes to designate 247 miles of trail for motorized use. One hundred and five miles would be for ATVs and motorcycles, and 142 miles would be for motorcycles only. Additionally, approximately 2,040 miles of roads, some of which are coincident with trails, would also be available for use by ATVs and motorcycles.

This proposal would close some existing trails to motorized use, or not designate some trails, that are currently being used for such. It would designate approximately 71 miles of unauthorized trails. The proposal would convert the following miles of road to trail: 49 miles of closed forest roads, 13 miles of previously decommissioned roads, 7 miles of non-system roads, and 1 mile of undetermined road. The remaining 103 miles proposed for designation are existing forest trails.

Motorized Areas: To reduce the negative effects caused by vehicles traveling cross-country, the Santa Fe National Forest proposes to designate approximately 50 acres for motorized cross-country use. Cross-country motorized travel outside of these areas will be prohibited.

On the Jemez Ranger District, the Forest proposes 12 small areas totaling approximately 40 acres for motorcycle use. To access these areas, people would use designated motorized single-track trails. A trials motorcycle group has used these areas for competitive events under a special use permit for the last several years. Their attractiveness for cross-country travel lies in the large boulders and rocky terrain, where riders test their technical abilities at slow speeds.

On the Pecos/Las Vegas Ranger District, the Forest proposes ten areas, generally one acre or less to provide motorized dispersed camping in locations that are already well used for this activity. The Travel Management Rule does not differentiate among types of uses within a designated area, so vehicle use would not be limited to camping.

Motorized Access to Dispersed Camping: To reduce the risk of future damage to natural and heritage resources, the Santa Fe National Forest proposes to designate motorized access to dispersed camping.

The Forest used three methods to designate access to motorized dispersed camping: (1) Designating specific routes leading to dispersed campsites; (2) designating areas; and (3) designating corridors along certain roads pursuant to section 212.51(b). Parking safely next to the side of a designated road and using non-motorized means to get to a campsite will continue to be allowed throughout the Forest. The Forest's intent is to designate access to those areas where people are already camping, unless substantial resource damage is occurring.

The Forest proposes to designate 150-foot corridors on either side of 437 miles of road and 8 miles of trail, and 300-foot corridors on either side of the road along 71 miles of road. The roads leading to dispersed campsites beyond these designated distances are proposed individually for designation.

Motorized Access to Retrieve Downed Big Game: Recognizing that any OHV use off designated roads and trails has the potential to stimulate additional unintended use and subsequent habitat degradation, the Santa Fe National Forest proposes to limit the use of motor vehicles to retrieve downed game to designated routes only. No corridors to retrieve big game with a motorized vehicle are being proposed.

Responsible Official: The Responsible Official is the Forest Supervisor, Santa Fe National Forest, 1474 Rodeo Road, P.O. Box 1689, Santa Fe, NM 87504-1689.

Nature of Decision To Be Made: Based on the environmental analysis, the forest supervisor will decide: (1) Which roads, trails, and areas will be designated for motorized use by the public by vehicle class and time of year; (2) where to designate motorized access for dispersed camping; and (3) whether to designate motorized access to retrieve downed game; and (4) what forest plan amendments to adopt.

Scoping Process: This notice of intent initiates the scoping process that guides the development of the draft environmental impact statement. The Forest invites written comments and suggestions on the proposed action, including any issues to consider, as well as any concerns relevant to the analysis. The Forest encourages electronic correspondence on this proposed action. Forest staff will also conduct a series of public meetings:

1. Mora-Cleveland area: Monday, July 28, 2008, 6-8:30 p.m., CHET Fire Department, Highway 518, Cleveland, New Mexico.

2. Coyote: Tuesday, July 29, 2008, 6-8:30 p.m., Coyote Elementary School, W. Highway 96, Coyote, New Mexico.

3. Las Vegas: Wednesday, July 30, 2008, 6-8:30 p.m., West Kennedy Hall, NMHU, University Avenue, Las Vegas, New Mexico.

4. Jemez: Thursday, July 31, 2008, 6-8:30 p.m., Valles Caldera Conference Room, 18161 Highway 4, Jemez Springs, New Mexico.

5. Rowe-Pecos area: Saturday, August 2, 2008, 10 a.m.-12:30 p.m., Pecos Middle School Cafeteria, N. Highway 63, Pecos, New Mexico.

6. Peña Blanca: Tuesday, August 5, 2008, 6-8:30 p.m., Peña Blanca Community Center Gym, 778 Highway 22, Peña Blanca, New Mexico.

7. Glorieta, Eldorado, Cañoncito, Hondo area: Wednesday, August 6, 2008, 6-8:30 p.m., Hondo Volunteer Fire Department, 645 Old Las Vegas Highway, Santa Fe, New Mexico.

8. Cuba: Thursday, August 7, 2008, 6-8:30 p.m., Cuba Senior Center, 16A Cordova Street, Cuba, New Mexico.

9. Santa Fe: Tuesday, August 12, 2008, 6-8:30 p.m., Unitarian Universalist Congregation, 107 W. Barcelona Rd., Santa Fe, New Mexico.

10. Los Alamos: Thursday, August 14, 2008, 6-8:30 p.m., Fuller Lodge, 2132 Central Avenue, Los Alamos, New Mexico.

11. Española: Monday, August 18, 2008, 6-8:30 p.m., Española Ranger Station, 1710 N. Riverside Drive, Española, New Mexico.

12. Rio Rancho: Tuesday, August 19, 2008, 6-8:30 p.m., Destiny Center, 4401 Northern Blvd., NE., Rio Rancho, New Mexico.

13. Albuquerque: Wednesday, August 20, 2008, 6-8:30 p.m., UNM Conference Center, Room B, 1634 University Blvd., NE., Albuquerque, NM.

The meetings set aside time for informal discussions, a presentation, map review, and asking questions.

Contacts at Ranger Districts: The district rangers listed below can answer site-specific questions on the proposal. Coyote Ranger District: Francisco Sanchez, (575) 638-5526. Cuba Ranger District: Jim Eaton or Derek Padilla, (575) 289-3264.

Jemez Ranger District: Linda Riddle, (575) 829-3535. Pecos/Las Vegas Ranger District: Steve Romero, (505) 757-6121 or (505) 425-3535.

Española Ranger District: Sandy Hurlocker, (505) 753-7331.

Early Notice of Importance of Public Participation in Subsequent Environmental Review: A draft environmental impact statement will be prepared for comment. The comment period on the draft environmental impact statement will be a minimum of 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Authority: 40 CFR 1501.7 and 1508.22; Forest Service Handbook 1909.15, Section 21.

Dated: July 2, 2008.
Daniel J. Jiron,
Forest Supervisor.

[FR Doc. E8-16374 Filed 7-16-08; 8:45 am]

BILLING CODE 3410-11-P